DEPARTMENT OF TRANSPORTATION

Surface Transportation Board

[STB Finance Docket No. 34659]

South Buffalo Railway Company—Trackage Rights Exemption—Buffalo & Pittsburgh Railroad, Inc.

Buffalo & Pittsburgh Railroad, Inc. (BPRR), has agreed to grant overhead trackage rights to South Buffalo Railway Company (SB) over BPRR's line of railroad on or near the Buffalo City line up to (but not including) the Control Point Draw Bridge, in the City of Buffalo, Erie County, NY,¹ a total distance of approximately 2 miles.²

¹ In a related proceeding, Buffalo & Pittsburgh Railroad, Inc.—Lease and Operation Exemption—South Buffalo Railway Company, STB Finance Docket No. 34563 (STB served Dec. 23, 2004), BPRR was authorized to lease from its affiliate SB and operate the subject line. In that petition, the line was described as extending between approximately milepost 0.0 and approximately milepost 2.0.

² On February 3, 2005, SB filed a copy of the Amended and Restated Trackage Rights Agreement between SB and BPRR.

The transaction was scheduled to be consummated on or after the February 7, 2005 effective date of the exemption.

The purpose of the trackage rights is to allow SB to continue to interchange with BPRR and other carriers accessible from the line.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34659, must be filed with the Surface Transportation Board, 1925 K Street, NW., Washington, DC 20423-0001. In addition, a copy of each pleading must be served on Rose-Michele Weinryb, Weiner Brodsky Sidman Kider PC, Fifth Floor, 1300 19th Street, NW., Washington, DC 20036-1609.

Board decisions and notices are available on our Web site at http://www.stb.dot.gov.

Decided: February 11, 2005.
By the Board, David M. Konschnik, Director, Office of Proceedings.
Vernon A. Williams,
Secretary.

[FR Doc. 05-3170 Filed 2-17-05; 8:45 am]

BILLING CODE 4915-01-P